DEPARTMENT OF TRANSPORTATION

National Highway Traffic Safety Administration

49 CFR Parts 571 and 587

[Docket No. NHTSA-03-15742]

RIN 2127-AI05

Federal Motor Vehicle Safety Standards; Side Impact Protection; Fuel System Integrity

AGENCY: National Highway Traffic Safety Administration (NHTSA), Department of Transportation.

ACTION: Final rule.

SUMMARY: Pursuant to the agency's grant of a petition for rulemaking from Mr. James E. Stocke, NHTSA updates the Federal motor vehicle safety standards on side impact protection and fuel system integrity by providing that radial tires of certain specifications, instead of bias ply tires, be used on the moving barriers specified in these standards. In conjunction with that update, NHTSA also deletes certain outdated or inaccurate specifications for the moving barriers in the fuel system integrity standard.

DATES: This final rule is effective September 29, 2003. If you wish to submit a petition for reconsideration of this rule, your petition must be received by September 12, 2003.

ADDRESSES: Petitions for reconsideration should refer to the docket number and be submitted to: Administrator, Room 5220, National Highway Traffic Safety Administration, 400 Seventh Street, SW., Washington, DC 20590.

FOR FURTHER INFORMATION CONTACT: For technical and policy issues: Dr. William Fan, Office of Crashworthiness Standards, NVS-112, National Highway Traffic Safety Administration, 400 Seventh Street, SW., Washington, DC 20590. Telephone: (202) 366-4922. Fax: (202) 366-4329.

For legal issues: Nancy Bell, Attorney Advisor, Office of the Chief Counsel, NCC-112, National Highway Traffic Safety Administration, 400 Seventh Street, SW., Washington, DC 20590. Telephone: (202) 366-2992. Fax: (202) 366-3820.

SUPPLEMENTARY INFORMATION:

Table of Contents

I. Background

II. Summary of the Notice of Proposed Rulemaking (NPRM)

III. Summary of Comments on the NPRM

IV. Agency Decision Regarding the Final Rule

V. Rulemaking Analyses and Notices

VI. Regulatory Text

I. Background

On February 3, 2000, Mr. James E. Stocke, a retired automotive safety engineer, submitted a petition for rulemaking requesting that NHTSA amend Federal Motor Vehicle Safety Standard (FMVSS) No. 301, Fuel System Integrity (49 CFR 571.301), to provide that the moving barrier assembly be equipped with P205/75R15 radial tires inflated to 207 kPa (30 psi), replacing the currently specified G78-15 bias ply tires inflated to 165 kPa (24 psi). Mr. Stocke stated that the bias tire size designation referenced in FMVSS No. 301 was outdated 15 years ago and that bias tires are no longer readily available because they have been replaced with radial tires. Mr. Stocke noted that the Society of Automotive Engineers, Inc. (SAE) J972 Recommended Practice “Moving Rigid Barrier Collision Tests” was revised (in August 1997) to specify both P205/75R15 radial tires and G78-15 bias ply tires for use on moving barriers. In a letter dated August 16, 2000, NHTSA granted Mr. Stocke's petition for rulemaking.

FMVSS No. 214, Side impact protection (49 CFR 571.214), and FMVSS No. 301 specify impact tests using moving barriers. Paragraph S6.10 of FMVSS No. 214 contains specifications for a 1,367 kilogram (3,000 pound) moving deformable barrier. FMVSS No. 301 contains specifications for two 1,814 kilogram (4,000 pound) moving rigid barriers: a moving flat rigid barrier (Paragraphs S7.2 and S7.3), and a moving contoured rigid barrier (Paragraph S7.5). Both FMVSS No. 301 moving barriers are used to assess vehicle fuel system integrity. The FMVSS No. 301 moving flat rigid barrier is used for testing passenger cars, multipurpose passenger vehicles, trucks and buses with a gross vehicle weight rating (GVWR) of 4,536 kilograms (10,000 pounds) or less. The FMVSS No. 301 moving contoured rigid barrier is used for testing large school buses with a GVWR greater than 4,536 kilograms (10,000 pounds). The FMVSS No. 214 moving deformable barrier is used for side impact testing of passenger cars, and multipurpose passenger vehicles, trucks and buses with a GVWR of 2,722 kilograms (6,000 pounds) or less. G78-15 bias ply tires are currently specified for the FMVSS No. 301 barriers.¹

¹ Paragraph S7.5.4 of FMVSS No. 301 specifies G78-15 bias ply tires for use on the moving contoured rigid barrier. The requirements for the FMVSS No. 301 moving flat rigid barrier do not specify bias ply tires, but, in practice, the moving flat rigid barrier utilizes the identical under-structure and G78-15 bias ply tires as the moving contoured rigid barrier.

The tire specifications for the FMVSS No. 214 moving barrier are not specified in FMVSS No. 214. Instead, S6.10 of FMVSS No. 214 incorporates by reference the moving barrier specified in 49 CFR part 587, subpart B, Side Impact Moving Deformable Barrier. The tire specifications for that barrier are contained in Drawing DSL-1278, Sheet 2 of 2, Item -11 and Note 8. Item -11 specifies “Bias belted tire (BF Goodrich—G78-15 CLM).” In October 1991, Note 8 was added to drawing DSL-1278 that states “Bias belted tire, size P215/75B15, may be substituted for that specified in -11. Inflate to recommended pressure.”

II. Summary of the Notice of Proposed Rulemaking (NPRM)

On October 10, 2001, the agency published a NPRM proposing amendments to FMVSS Nos. 214 and 301 to require radial tires of certain specifications and also proposing to delete certain outdated or inaccurate specifications for the moving barriers in FMVSS No. 301. (66 FR 51629, Docket No. NHTSA-01-10435). In that notice, NHTSA discussed several considerations regarding Mr. Stocke's petition.

First, the agency noted that with the increased use of the radial tire design over the past 30 years in the U.S., the bias ply tire design had become virtually obsolete. Consequently, bias ply tires were not currently or readily available to testing laboratories and would become even more difficult for the laboratories to obtain in the future. Also, the agency noted that the SAE J972 Recommended Practice “Moving Rigid Barrier Collision Tests” now includes specifications for radial tires as well as for bias ply tires. Both P205/75R15 and P215/75R15 radial tires are readily available at present and are widely recommended for use by vehicle manufacturers on passenger cars, small passenger vans, and small sport utility vehicles.

Another consideration discussed by the agency was the potential effect on ride height (the height of the center of gravity) and vertical motion (bounce) of a moving barrier if tires different from those currently specified in FMVSS Nos. 214 and 301 were used on those barriers. Bias ply tires and radial tires are different in design and construction; therefore, they exhibit different performance characteristics. The radial construction creates a tread that is stiffer and a sidewall that is more flexible than that of a bias ply tire. These factors would affect the performance of moving barriers.²

² The moving barrier tests in FMVSS Nos. 214 and 301 specify a static barrier ride height, an important impact parameter measurement. Further, the Laboratory Test Procedure in FMVSS No. 214 provides a guideline for barrier vertical displacement. Because a radial tire has a lower profile and a more flexible sidewall than a bias ply tire, the use of radial tires, rather than bias ply tires, on the moving barriers specified in FMVSS Nos. 214 and 301 could affect the barrier ride height (the center of gravity height and/or barrier contact height). Additionally, if an improper tire inflation pressure is used, it may affect the barrier's vertical motion as it is being towed during the test.

In addition to discussing considerations arising out of the petition, the agency summarized related barrier tire research conducted by Ford Motor Company (Ford) and the revised SAE J972 Recommended Practice. After careful review of the study and the SAE Recommend Practice, NHTSA tentatively concluded that the P215/75R15 radial tire inflated to 221 kPa (32 psi) would be an appropriate alternative to the G78-15 bias ply tire for use on the FMVSS No. 214 moving deformable barrier and that the P205/75R15 tires inflated to 207 kPa (30 psi) would be appropriate for use on both moving rigid barriers specified in FMVSS No. 301.

As a result of these conclusions, NHTSA proposed specifying either P215/75R15 tires inflated to 221 kPa (32 psi) or P205/75R15 tires inflated to 207 kPa (30 psi) for use on FMVSS Nos. 214 and 301 moving barriers. NHTSA stated that it would pick one of these tires and specify it in the final rule for all moving barriers.

The agency also indicated that prior to making a final decision, the agency would assess the extent to which the substitution of a tire may have unintended effects on either (1) the ride height, or (2) the impact performance of the FMVSS Nos. 214 and 301 moving barriers. For example, in attempting to find a set of appropriate radial tires (tire size and inflation pressure) for use on the FMVSS No. 214 barrier, NHTSA expressed concern that a set of four incorrectly inflated tires could result in excessive barrier vertical motion during the towing process, which could have made it difficult to stay within the +/−20 mm (0.8 inch) vertical displacement guideline.³ NHTSA solicited comments and laboratory test data concerning these matters.

³ To control the impact height in the impact test in FMVSS No. 214, NHTSA's Office of Vehicle Safety Compliance specifies a vertical displacement guideline of +/−20 mm (0.8 inch) in its Laboratory Test Procedure. (This guideline only applies to NHTSA contractors conducting FMVSS No. 214 side impact compliance tests.)

In conjunction with the proposal, NHTSA proposed that the tread width specification be deleted from the tire specifications in FMVSS No. 301. The tread width specification for radial tires is unnecessary because the radial tire size designation is sufficient to define tread width.

Finally, the agency proposed that the moment of inertia specifications for the moving contoured barrier be removed from FMVSS No. 301 because, based on the current measurements, excepting the moments of inertia, the FMVSS No. 301 moving contoured barrier could be constructed to the barrier specifications with the dimensional drawings and the specified center of gravity. In addition, there are no moments of inertia specified for the FMVSS No. 301 moving flat barrier.

III. Summary of Comments on the NPRM

NHTSA received comments on the October 2001 NPRM from General Motors North America (GM), Ford Motor Company (Ford), and Volkswagen (VW). The comments are summarized below.

All three commenters generally supported the amendments proposed in the NPRM.

With regard to tire-type and inflation pressure, GM commented that either tire-type proposed by the agency would be appropriate for use on FMVSS Nos. 214 and 301 moving barriers and suggested an inflation range between 179 kPa and 221 kPa (26 psi-32 psi). Ford said that either proposed tire-type and respective inflation pressure would perform satisfactorily, but recommended that the P215/75R15 tire, inflated to 221 kPa (32 psi), be adopted for use on all moving barriers specified in FMVSS Nos. 214 and 301. Both Ford and GM provided data supporting their conclusions. VW supported the use of the P205/75R15 tire inflated to 207 kPa (30 psi) on all moving barriers specified in FMVSS Nos. 214 and 301.

With respect to the tread width specification, GM and Ford supported the agency's proposal to delete the outdated specification from FMVSS No. 301.

GM and Ford both concurred with the agency's proposal to delete the inaccurate moment of inertia specified in FMVSS No. 301. GM, however, recommended that NHTSA request test laboratories to provide moments of inertia for their moving barriers for further examination. Ford recommended that NHTSA consider specifying the moments of inertia for the common carriage of moving barriers prescribed in FMVSS No. 301.

Finally, GM recommended that NHTSA standardize the language of the moving barrier standards so that the text of FMVSS No. 301 would read similarly to that of S6.10 of FMVSS No. 214.

IV. Agency Decision Regarding the Final Rule

A. Tire-type and Inflation Range

Based on test data presented by GM and Ford, tire inflation pressure, rather than tire-type, appears to be a more critical element for various test facilities conducting moving barrier tests. GM has conducted FMVSS No. 214 tests using P205/75R15 tires inflated to 193 kPa (28 psi) with satisfactory results and at present is using 215/75R15 tires inflated to 193 + − 14 kPa (28 + − 2 psi) in all of its FMVSS No. 301 moving barrier tests. Pursuant to its testing, Ford recommends P215/75R15 tires inflated to 221 kPa (32psi) for use on the FMVSS No. 214 moving barrier. However, Ford believes that either tire-type would work well. Based on the comments and the data, NHTSA concludes that either tire-type, inflated to a pressure between 179 kPa and 221 kPa (26 psi-32 psi), would perform satisfactorily. Since either tire-type is reported to do well when properly inflated and since SAE J972 has already incorporated a specification for P205/75R15 radial tires inflated to 207 kPa (30 psi) for use on moving barriers, NHTSA adopts P205/75R15 tires inflated to between 179 kPa and 221 kPa (26 psi-32 psi) for use on all moving barriers specified in FMVSS Nos. 214 and 301.

B. Tread Width Specifications

Commenters supported the agency's proposal to delete the tread width specification in FMVSS No. 301. Therefore, the agency adopts the proposal to delete the tread width specification from FMVSS No. 301.

C. Moments of Inertia

Both GM and Ford concurred with the agency's proposal to delete the inaccurate moments of inertia for the moving contoured barrier from FMVSS No. 301. However, Ford recommended that NHTSA consider specifying moments of inertia for the common carriage of the moving barriers. GM recommended that NHTSA ask test laboratories to provide the moment of inertia of their moving barriers and that NHTSA consider these specifications, as appropriate, in a future rulemaking.

In response to Ford's recommendation, NHTSA notes that the moments of inertia of the common carriage are only a part of, and do not have a critical effect on, the resultant moments of inertia of the moving flat and contoured barriers specified in FMVSS No. 301. Because the moment of inertia of a concentrated mass is the product of the mass and the square of the distance between the mass and the axis of rotation, the distance between a component mass and the center of gravity of the moving barrier is more important than the mass itself in determining the moments of inertia of the moving barrier. Because of this distance from the center of gravity of the moving barrier, components such as the contoured contact face of the barrier and the ballast weights would have a greater influence than the common carriage on the moments of inertia of the moving barrier. Therefore, the agency concludes that it is unnecessary to define the moments of inertia for the common carriage.

In response to GM's suggestion that NHTSA request test laboratories to provide moment of inertia data for further rulemaking, NHTSA does not believe that re-defining the moment of inertia of the moving contoured barriers would affect testing results. The moments of inertia of the moving contoured barrier are a dynamic structural property of, rather than a primary design criterion for, the moving barrier. Therefore, the moving barrier structure, as constructed according to FMVSS No. 301 specifications, determines the moments of inertia. FMVSS No. 301 specifies the component cross-section, the structure dimension, the weight distribution, the ballast location, and the center of gravity for the moving contoured barrier. Based on these specifications, the construction of all moving barriers is very similar. Consequently, the moments of inertia of the moving contoured barrier would also be very similar. For this reason, the agency has decided not to pursue GM's recommendation.

D. Standardizing Language

The agency believes that GM's suggestion to standardize the language in all moving barrier standards has merit. Because the agency has not considered the effects of standardizing this language, it will not adopt the suggestion in this final rule. The agency, however, will consider this suggestion in the course of future rulemakings concerning moving barriers.

V. Effective Date

The bias ply tires currently specified in FMVSS No. 301 are not readily available to testing laboratories at present and will be even more difficult to obtain in the future. Vehicle manufacturers currently recommend both P205/75R15 and P215/75R15 radial tires proposed in the NPRM for use on passenger cars, multi-purpose passenger vehicles, and light trucks. The agency has noted that certain laboratories have adopted the aforesaid radial tires for use on moving barriers specified in FMVSS Nos. 214 and 301. In view of this, the agency has decided to make that final rule effective September 29, 2003.

VI. Rulemaking Analyses and Notices

Executive Order 12866 (Federal Regulation) and DOT Regulatory Policies and Procedures

This final rule has not been reviewed under E.O. 12866. After considering the impacts of this rulemaking action, we have determined that the action is not significant within the meaning of the Department of Transportation regulatory policies and procedures. The intent of the rulemaking action is to update regulatory procedures that have been in effect for over 25 years. In most cases, the effect of the proposed amendments will be to relax or eliminate burdens on regulated entities. The tires specified in the proposed rule are more readily available than those currently specified. Further, they are already widely recommended by voluntary standards organizations for use by vehicle manufacturers for testing. Accordingly, there will be no increase in the cost of tires used for testing. Further, we do not anticipate any impact on the ability to conduct valid tests or any other impact on the cost or ease of testing. Thus, the impacts are so minimal as not to warrant the preparation of a full regulatory evaluation.

Regulatory Flexibility Act

In compliance with the Regulatory Flexibility Act (5 U.S.C. 601-612), we have evaluated the effects of this rule on small entities. NHTSA certifies that this action would not have a significant economic impact on a substantial number of small entities. This action merely replaces an outdated tire specification for testing devices with an equivalent current tire specification.

Paperwork Reduction Act

Under the Paperwork Reduction Act of 1995 (PRA) (44 U.S.C. 3501, et. seq.), Federal agencies must obtain approval from the Office of Management and Budget (OMB) for each collection of information they conduct, sponsor, or require through regulations. NHTSA has reviewed this final rule and determined that it does not contain collection of information requirements.

Unfunded Mandates Reform Act of 1995

This rule will not impose a Federal mandate resulting in the expenditure by State, local, and tribal governments, in the aggregate, or by the private sector, of $100 million or more in any one year. (2 U.S.C. 1531 et seq.).

Executive Order 12778 (Civil Justice Reform)

This rule will not have any retroactive effect. Under section 49 U.S.C. 30103, whenever a Federal motor vehicle safety standard is in effect, a state may not adopt or maintain a safety standard applicable to the same aspect of performance which is not identical to the Federal standard, except to the extent that the state requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

Executive Order 13045 (Protection of Children)

We have analyzed this action under Executive Order 13045, Protection of Children from Environmental Health Risks and Safety Risks. This rule is not an economically significant rule and does not concern an environmental risk to health or safety that may disproportionately affect children.

National Technology Transfer and Advancement Act

Section 12(d) of the National Technology and Advancement Act of 1995 (NTTAA), Public Law 104-113, section 12(d) (15 U.S.C. 272) directs us to use voluntary consensus standards in our regulatory activities unless doing so would be inconsistent with applicable law or otherwise impractical. Voluntary consensus standards are technical standards (e.g., material specifications, test methods, sampling procedures, and business practices) that are developed or adopted by voluntary consensus standards bodies. The NTTAA directs us to provide explanations when we decide not to use available and applicable voluntary consensus standards. We note that the radial tire specifications contained in SAE J972 Recommended Practice “Moving Rigid Barrier Collision Tests” are a voluntary consensus standard and that we have incorporated them into FMVSS Nos. 214 and 301.

National Environmental Policy Act

The agency has analyzed this action for the purposes of the National Environmental Policy Act of 1969, as amended (42 U.S.C. 4321 et seq.) and has determined that this action will not have any effect on the quality of the environment.

Executive Order 13132 (Federalism)

E.O. 13132 requires NHTSA to develop an accountable process to ensure “meaningful and timely input by State and local officials in the development of regulatory policies that have federalism implications.” E.O. 13132 defines the term “Policies that have federalism implications” to include regulations that have “substantial direct effects on the States, on the relationship between the national government and the States, or on the distribution of power and responsibilities among the various levels of government.” Under E.O. 13132, NHTSA may not issue a regulation that has federalism implication, that imposes substantial direct compliance costs, and that is not required by statute, unless the Federal government provides the funds necessary to pay the direct compliance costs incurred by State and local governments, or NHTSA consults with State and local officials early in the process of developing the proposed regulation.

The rule will not have substantial direct effects on the States, on the relationship between the national government and the States, or on the distribution of power and responsibilities among the various levels of government as specified in E.O. 13132. Thus, the requirements of section 6 of the Executive Order do not apply to this rule.

VII. Regulatory Text

List of Subjects

49 CFR Part 571

Imports, Motor vehicle safety, Motor vehicles, Rubber and rubber products, and Tires.

49 CFR Part 587

Incorporation by reference, Motor vehicle safety.

In consideration of the foregoing, 49 CFR parts 571 and 587 are amended as follows:

PART 571—FEDERAL MOTOR VEHICLE SAFETY STANDARDS

1. The authority citation for part 571 continues to read as follows:

Authority: 49 U.S.C. 322, 30111, 30115, 30166 and 30177; delegation of authority at 49 CFR 1.50.

2. Section 571.301 is amended by revising S7.5.2, S7.5.4 and S7.5.5; by removing S7.5.6; and by adding S7.6 to read as follows:

§ 571.301 Standard No. 301, Fuel system integrity.

* * * * *

S7.5.2 The moving contoured barrier, including the impact surface, supporting structure, and carriage, has a mass of 1,814 kg ± 23 kg with the mass distributed so that 408 kg ± 11 kg is at each rear wheel and 499 kg ± 11 kg is at each front wheel. The center of gravity is located 1,372 mm ± 38 mm rearward of the front wheel axis, in the vertical longitudinal plane of symmetry, 401 mm +/−13 mm above the ground.

* * * * *

S7.5.4 The concrete surface upon which the vehicle is tested is level, rigid, and of uniform construction, with a skid number of 75 when measured in accordance with American Society of Testing and Materials Method E: 274-65T at 64 km/h, omitting water delivery as specified in paragraph 7.1 of that method.

S7.5.5 The barrier assembly is released from the guidance mechanism immediately prior to impact with the vehicle.

S7.6 The moving barrier assemblies specified in S7.2, S7.3 and S7.5 are equipped with P205/75R15 pneumatic tires inflated to 200 kPa +/−21 kPa.

* * * * *

3. Figure 2 at the end of section 571.301 is revised to read as follows:

BILLING CODE 4910-59-P

PART 587—DEFORMABLE BARRIERS

4. The authority citation for part 587 continues to read as follows:

Authority: 49 U.S.C. 322, 30111, 30115, 30117, 30166 and 30177; delegation of authority at 49 CFR 1.50.

5. Section 587.6 is amended by revising paragraph (b)(1) to read as follows:

§ 587.6 General description.

* * * * *

(b) * * *

(1) The specifications for the final assembly of the moving deformable barrier are provided in the drawings shown in DSL-1278, dated June 2002.

* * * * *

Issued on: July 23, 2003.
Jeffrey W. Runge,
Administrator.

[FR Doc. 03-19261 Filed 7-28-03; 8:45 am]

BILLING CODE 4910-59-C